DEPARTMENT OF HEALTH AND HUMAN SERVICES

Indian Health Service

Request for Public Comment: 60-Day; Proposed Collection: IHS Scholarship Program Application

SUMMARY: In compliance with Section 3506(c)(2)(A) of the Paperwork Reduction Act of 1995, to provide a 60-day advance opportunity for public comment on proposed information collection projects, the Indian Health Service (IHS) is publishing for comment a summary of a proposed information collection to be submitted to the Office of Management and Budget (OMB) for review.

Proposed Collection

Title: 0917-0006, “IHS Scholarship Program Application.” This collection was formerly titled, “Application for Participation in the IHS Scholarship Program”. Type of Information Collection Request: 3-year extension, with change, of previously approved information collection, 0917-0006, “Application for Participation in the IHS Scholarship Program” which expires April 4, 2001. Form Number(s): IHS-856, 856-2, through 856-8, IHS-815. IHS-816, IHS-818, D-02, F-02, F-04, G-02, G-04, H-07, H-08, J-06, J-07, K-03, K-04, and L-03. Reporting formats are contained in an IHS Scholarship Program application booklet. Need and Use of Information Collection: The IHS Scholarship Branch needs this information for program administration and uses the information to solicit, process and award IHS Pre-Graduate, Preparatory and/or Health Professions Scholarship grantees and monitor the academic performance of awardees, to place awardees at payback sites, and for awardees to request additional program. The IHS Scholarship Program is streamlining the application to reduce the time needed by applicants to complete and provide the information, and plans on using information technology to make the application electronically available on the Internet.

Affected Public: Individuals, not-for-profit institutions and State, local or Tribal Government.

Type of Respondents: Students pursuing health care professions.

The table below provides: Types of data collection instruments, Estimated number of respondents, Number of responses per respondent, Annual number of responses, Average burden hour per response, and Total annual burden hour(s).

Data collection instrument(s) | Number of respondents | Responses per respondent | Total annual response | Burden hour per response* | Annual burden hours
Scholarship Application (IHS-856) | 875 | 1 | 875 | 1.50 (90 min) | 1,312
Checklist (856-2) | 875 | 1 | 875 | 0.13 (8 min) | 114
Course Verification (856-3) | 875 | 1 | 875 | 0.70 (42 min) | 613
Faculty/Employer Application (856-4) | 1,750 | 1 | 1,750 | 0.83 (50 min) | 1,453
Justification (856-5) | 875 | 1 | 875 | 0.75 (45 min) | 656
Federal Debt (856-6) | 875 | 1 | 875 | 0.13 (8 min) | 114
MPH only (856-7) | 50 | 1 | 50 | 0.83 (50 min) | 42
Accept/Decline (856-8) | 875 | 1 | 875 | 0.13 (8 min) | 114
Stipend Checks (D-02) | 100 | 1 | 100 | 0.13 (8 min) | 13
Enrollment (F-02) | 1,400 | 1 | 1,400 | 0.13 (8 min) | 182
Academic Problem/Change (F-04) | 100 | 1 | 100 | 0.13 (8 min) | 13
Request Assistance (G-02) | 217 | 1 | 217 | 0.13 (8 min) | 28
Summer School (G-04) | 193 | 1 | 193 | 0.10 (6 min) | 19
Contract (818) | 1,400 | 1 | 1,400 | 0.27 (16 min) | 378
Placement (H-07) | 250 | 1 | 250 | 0.18 (11 min) | 45
Graduation (H-08) | 250 | 1 | 250 | 0.17 (10 min) | 43
Site Preference (J-04) | 150 | 1 | 150 | 0.13 (8 min) | 20
Travel Reimb (J-05) | 150 | 1 | 150 | 0.10 (6 min) | 15
Status Report (K-03) | 250 | 1 | 250 | 0.25 (15 min) | 63
Preferred Assignment (K-04) | 200 | 1 | 200 | 0.75 (45 min) | 150
Deferment (L-03) | 20 | 1 | 20 | 0.13 (8 min) | 3
Total | 11,730 |  |  |  | 5,390
*For ease of understanding, burden hours are also provided in actual minutes.

There are no Capital Costs, Operating Costs and/or Maintenance Costs to report.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information; (d) whether the methodology and assumptions used to determine the estimate are logical; (e) ways to enhance the quality, utility, and clarity of the information being collected; and (f) ways to minimize the public burden through the use of automated, electronic, mechanical, or other technological collection techniques or other forms of information technology.

SEND COMMENTS AND REQUESTS FOR FURTHER INFORMATION: Send your written comments, requests for more information on the proposed collection, or requests to obtain a copy of the data collection instrument(s) and instructions to: Mr. Lance Hodahkwen, Sr., M.P.H., IHS Reports Clearance Officer, 12300 Twinbrook Parkway, Suite 450, Rockville, MD 20852-1601 or call non-toll free (301) 443-5938, send via facsimile to (301) 443-2316, or send your e-mail requests, comments, and return address to: lhodahkw@hqe.ihs.gov.

COMMENT DUE DATE: Your comments regarding this information collection are best assured of having their full effect if received on or before February 5, 2001.

Dated: November 29, 2000.
Michael H. Trujillo,
Assistant Surgeon General, Director.

[FR Doc. 00-31153 Filed 12-6-00; 8:45 am]

BILLING CODE 4160-16-M